DEPARTMENT OF ENERGY

Federal Energy Regulatory Commission

Combined Notice of Filings

April 14, 2009.

Take notice that the Commission has received the following Natural Gas Pipeline Rate and Refund Report filings:

Docket Numbers: RP09-329-001.

Applicants: Mississippi Canyon Gas Pipeline, LLC.

Description: Mississippi Canyon Gas Pipeline, LLC submits First revised Sheet 126 et al to FERC Gas Tariff, First Revised Volume 1.

Filed Date: 04/09/2009.

Accession Number: 20090410-0087.

Comment Date: 5 p.m. Eastern Time on Tuesday, April 21, 2009.

Docket Numbers: RP09-375-001.

Applicants: Columbia Gas Transmission, LLC.

Description: Columbia Gas Transmission, LLC submits First Revised Sheet 280 et al to FERC Gas Tariff, Third Revised Volume 1.

Filed Date: 04/09/2009.

Accession Number: 20090410-0085.

Comment Date: 5 p.m. Eastern Time on Tuesday, April 21, 2009.

Docket Numbers: RP09-393-002.

Applicants: Columbia Gas Transmission, LLC

Description: Columbia Gas Transmission, LLC submits Second Revised Sheet 37 to its FERC Gas Tariff, Third Revised Volume 1.

Filed Date: 04/09/2009.

Accession Number: 20090410-0086.

Comment Date: 5 p.m. Eastern Time on Tuesday, April 21, 2009.

Docket Numbers: RP09-251-001.

Applicants: Destin Pipeline Company, LLC.

Description: Destin Pipeline Company, LLC submits Substitute Third Revised Sheet No 103 to FERC Gas Tariff, Original Volume No 1 under RP09-251.

Filed Date: 04/10/2009.

Accession Number: 20090413-0148.

Comment Date: 5 p.m. Eastern Time on Wednesday, April 22, 2009.

Docket Numbers: RP09-435-001.

Applicants: Chandeleur Pipe Line Company.

Description: Chandeleur Pipe Line Company submits Twenty-Fifth Revised Sheet No 5 to the FERC Gas Tariff, Second Revised Volume No 1.

Filed Date: 04/10/2009.

Accession Number: 20090413-0149.

Comment Date: 5 p.m. Eastern Time on Wednesday, April 22, 2009.

Docket Numbers: RP09-476-000.

Applicants: Trailblazer Pipeline Company LLC.

Description: Trailblazer Pipeline Co, LLC submits Second Revised Sheet 11 to FERC Gas Tariff Fourth Volume 1.

Filed Date: 03/31/2009.

Accession Number: 20090401-0060.

Comment Date: 5 p.m. Eastern Time on Thursday April 16, 2009.

Docket Numbers: RP09-503-000.

Applicants: Kern River Gas Transmission Company.

Description: Kern River Gas Transmission Co. submits amendments to their transportation service agreements.

Filed Date: 04/08/2009.

Accession Number: 20090409-0054.

Comment Date: 5 p.m. Eastern Time on Monday, April 20, 2009.

Docket Numbers: RP09-504-000.

Applicants: Texas Gas Transmission, LLC.

Description: Texas Gas Transmission, LLC submits Third Revised Sheet No 401 et al FERC Gas Tariff, Third Revised Volume No 1.

Filed Date: 04/09/2009.

Accession Number: 20090410-0172.

Comment Date: 5 p.m. Eastern Time on Tuesday, April 21, 2009.

Docket Numbers: RP09-505-000.

Applicants: Texas Gas Transmission, LLC.

Description: Texas Gas Transmission, LLC submits First Revised First Revised Sheet No 2200 et al FERC Gas Tariff, Third Revised Volume No 1.

Filed Date: 04/09/2009.

Accession Number: 20090410-0171.

Comment Date: 5 p.m. Eastern Time on Tuesday, April 21, 2009.

Docket Numbers: RP09-506-000.

Applicants: Williston Basin Interstate Pipeline Co.

Description: Williston Basin Interstate Pipeline Co submits Eighth Revised Sheet No. 179A et al to FERC Electric Gas Tariff, Second Revised Volume No 1.

Filed Date: 04/10/2009.

Accession Number: 20090410-0170.

Comment Date: 5 p.m. Eastern Time on Wednesday, April 22, 2009.

Docket Numbers: RP09-507-000.

Applicants: Chandeleur Pipe Line Company.

Description: Chandeleur Pipe Line Company submits First Revised Sheet No. 74 et al to FERC Gas Electric Tariff, Original Volume No. 1.

Filed Date: 04/10/2009.

Accession Number: 20090410-0173.

Comment Date: 5 p.m. Eastern Time on Wednesday, April 22, 2009.

Docket Numbers: RP09-508-000.

Applicants: Texas Eastern Transmission LP.

Description: Texas Eastern Transmission, LP submits Second Revised Sheet No 809 et al to FERC Gas Tariff, Seventh Revised Volume No 1.

Filed Date: 04/10/2009.

Accession Number: 20090413-0150.

Comment Date: 5 p.m. Eastern Time on Wednesday, April 22, 2009.

Docket Numbers: RP09-509-000.

Applicants: Midcontinent Express Pipeline LLC.

Description: Midcontinent Express Pipeline LLC submits an amendment to an existing negotiated rate Transportation Rate Schedule FTS Agreement between MEP and Sandridge Energy, Inc.

Filed Date: 04/10/2009.

Accession Number: 20090413-0151.

Comment Date: 5 p.m. Eastern Time on Wednesday, April 22, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.
Deputy Secretary.

[FR Doc. E9-9112 Filed 4-20-09; 8:45 am]

BILLING CODE 6717-01-P